NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by December 2, 2024. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2025-019

1. Applicant: Ari Friedlaender, UC Santa Cruz, Institute of Marine Sciences, 115 McAllister Way, Santa Cruz, CA 96050.

Activity for Which Permit is Requested: Type, description of activity. Take, Harmful Interference, Import into USA. The applicant proposes to continue research activities to understand the population demography, health, behavior, and ecology of cetaceans in the Antarctic Peninsula region. To study these species, the applicant and agents would assess body condition, health, behavior, and distribution using remotely piloted aircraft systems (RPAS). Population demography and growth rates of cetaceans would be evaluated from remote biopsy samples that would be imported to the U.S. for analysis. Behavior and ecology of individual whales would be studied using multi-sensor suction cup tags that collect high-resolution behavioral information for 1-2 days, dart/barb tags that to collect spatial and dive data for up to one month, and implantable tags that collect movement and behavioral data on individual whales for months. The applicant and agents would biopsy, tag, and operate RPAS over humpback whales, Antarctic minke whales, blue whales, fin whales, sei whales, southern right whales, killer whales, and Arnoux's beaked whales. The proposed research focusing on cetaceans requires a permit under the Marine Mammal Protection Act which is currently pending.

Location: Antarctic Peninsula Region.

Dates of Permitted Activities: December 1, 2024-November 30, 2029.

Alina Pavao,
Administrative Assistant, Office of Polar Programs.

[FR Doc. 2024-25351 Filed 10-30-24; 8:45 am]

BILLING CODE 7555-01-P